DEPARTMENT OF LABOR

Employment and Training Administration

[TA-W-39,535; TA-W-39,535A; TA-W-39,535B]

Computer Sciences Corporation, at Dupont Corporation, Cooper River Plant, Charleston, SC; Computer Sciences Corporation, at Dupont Corporation, Cape Fear Plant, Wilmington, NC; Computer Sciences Corporation, at Dupont Corporation, Kinston Plant, Kinston, NC; Notice of Revised Determination on Reconsideration

By application of October 29, 2001, the petitioner, requested administrative reconsideration regarding the Department's Negative Determination Regarding Eligibility to Apply for Worker Adjustment Assistance, applicable to the workers of the subject firm.

The initial investigation resulted in a negative determination issued on August 31, 2001 based on the finding that the workers do not produce an article within the meaning of section 222(3) of the Trade Act of 1974. The denial notice was published in the Federal Register on September 21, 2001 (66 FR 48706).

To support the request for reconsideration, the applicant provided additional information explaining the functions performed at each of the subject plant locations and further indicated the contract work they performed was related to the production activities at the Dupont Corporation plants which were under an existing TAA certification (TA-W-35,961).

Upon examination of the data supplied by the applicant, it became apparent that the Computer Science Corporation contract workers were engaged in employment related to the production of polyester fiber at Dupont plants under an existing TAA certification. Subject firm declines in employment occurred at all three plants during the relevant period. The Dupont plants were certified eligible to apply for Trade Adjustment Assistance under TA-W-35,961 (expired August 23, 2001) followed by a further TAA certification under TA-W-39,743 (which commenced on August 24, 2001).

Based on data supplied by Dupont Corporation in case TA-W-39,743, it has become evident that all criteria have been met for Computer Science Corporation workers performing work related to the production activities at the Dupont plants located at Charleston, South Carolina, Wilmington, North Carolina and Kinston, North Carolina. Plant sales, production and employment declined and customer imports increased during the relevant period.

Conclusion

After careful review if the additional facts obtained on reconsideration, I conclude that increased imports of articles like or directly competitive with those produced at Dupont Corporation's, Cooper River Plant, Charleston, South Carolina, Cape Fear Plant, Wilmington, North Carolina and Kinston Plant, Kinston, North Carolina, contributed importantly to the declines in the total or partial separation of Computer Sciences Corporation workers, who performed work at the three Dupont plants. In accordance with the provisions of the Act, I make the following certification:

Workers of Computer Sciences Corporation engaged in employment activities related to the production of polyester fiber at Dupont Corporation's, Cooper River Plant, Charleston, South Carolina (TA-W-39,535), Cape Fear Plant, Wilmington, North Carolina (TA-W-39,535A) and Kinston Plant, Kinston, North Carolina (TA-W-39,535B), who became totally or partially separated from employment on or after June 20, 2000 through two years from the date of this certification, are eligible to apply for adjustment assistance under Section 223 of the Trade Act of 1974.

Signed in Washington, DC this 19th day of February 2002.
Edward A. Tomchick,
Director, Division of Trade Adjustment Assistance.

[FR Doc. 02-5588 Filed 3-7-02; 8:45 am]

BILLING CODE 4510-30-M